DEPARTMENT OF TRANSPORTATION

National Highway Traffic Safety Administration

[Docket No. DOT-NHTSA-2019-0066]

Agency Information Collection Activities; Notice and Request for Comment; Crash Report Sampling System

AGENCY: National Highway Traffic Safety Administration (NHTSA), Department of Transportation (DOT).

ACTION: Notice and request for comments.

SUMMARY: The Department of Transportation (DOT) invites public comments about our intention to request the Office of Management and Budget (OMB) approval to extend an existing information collection. Before a Federal agency can collect certain information from the public, it must receive approval from the Office of Management and Budget (OMB). Under procedures established by the Paperwork Reduction Act of 1995, before seeking OMB approval, Federal agencies must solicit public comment on proposed collections of information, including extensions and reinstatement of previously approved collections.

DATES: Comments must be received on or before September 10, 2019.

ADDRESSES: You may submit comments [identified by Docket No. DOT-NHTSA-2019-0066] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590; between 9 a.m. and 5 p.m., Monday through Friday, except on Federal holidays.

FOR FURTHER INFORMATION CONTACT: Jonae Anderson, State Data Reporting Systems Division (NSA-120), Room W53-470, 1200 New Jersey Avenue SE, Washington, DC 20590. Mrs. Anderson can also be reached via email at jonae.anderson@dot.gov or via telephone at 202-366-1028. Please identify the relevant collection of information by referring to its OMB Control Number.

SUPPLEMENTARY INFORMATION: Title: Crash Report Sampling System (CRSS) Information Collection.

OMB Control Number: 2127-0714.

Type of Request: Modification of a currently approved collection of information.

Type of Review: Regular.

Abstract: Under both the Highway Safety Act of 1966 and the National Traffic and Motor Vehicle Safety Act of 1966 (Pub. L. 89-563, Title 1, Sec. 106, 108, and 112) the National Highway Traffic Safety Administration (NHTSA) has the responsibility to collect crash data that support the establishment and enforcement of motor vehicle regulations and highway safety programs. These regulations and programs are developed to reduce fatalities and the property damage associated with motor vehicle crashes. NHTSA's National Center for Statistics and Analysis (NCSA) maintains a multidisciplinary approach to meet our users' data needs utilizing an efficient combination of census, sample-based, investigation, and existing State files to provide timely information on traffic crashes. The Crash Report Sampling System (CRSS) provides sample-based data on fatal, serious injury, and property-damage-only (PDO) crashes that helps users understand highway safety problem areas, develop countermeasures, and identify general data trends.

CRSS obtains data from a nationally representative probability sample selected from police-reported motor vehicle traffic crashes. Specifically, the CRSS data set includes crashes involving at least one motor vehicle in transport on a trafficway that result in property damage, injury, or a fatality. The crash reports sampled are chosen from selected areas that reflect the geography, population, miles driven, and the number of crashes in the United States. No additional data beyond the selected crash reports is collected. Additionally, the CRSS program neither collects nor publishes any personally identifiable information. Once the crash reports are received they are coded and the data is entered into the CRSS database.

CRSS acquires national information on fatalities, injuries, and property damage directly from existing State police crash reports. The user population includes Federal and State agencies, automobile manufacturers, insurance companies, and the private sector.

Affected Public: Local Police Jurisdictions and State Crash Database Owners.

Estimated Number of Respondents: 320 Respondents.

Respondents include a combination of State agencies that maintain crash data report databases and local police jurisdictions that investigate crashes and complete the crash reports.

Frequency: Ongoing.

The data is collected on an ongoing basis. For some respondents, the data is automatically transferred to NHTSA through the new electronic data transfer (EDT) program and transfers are as frequent as daily. Other respondents send the data to NHTSA monthly.

Estimated Total Annual Burden Hours: 35,680 hours.

Per the below table, burden hours are calculated differently based on the data collection method. The revised burden estimates in the below table describe the burden for each data collection methods. These estimates are based upon observation and review of the individual Primary Sampling Units (PSU's) area documentation, which describes the data collection protocols in detail.

Access method | Hours per jurisdiction | Jurisdiction (PJ/state) | Total hours
EDT (Implementation) | 200 | 3 | 600
EDT (Maintenance) | 5 | 8 | 40
State Website | 10 | 14 | 140
Web Service | 60 | 2 | 120
Manual | 470 | 74 | 34,780
Grand Total |  |  | 35,680

The total burden hour estimate of 35,680 hours represents an increase of 28,400 hours over the previously estimated burden of 7,280 hours. The change in burden hours represents a recalculation designed to more accurately estimate the time required to comply with the collection. The previous calculation didn't account for the variety of collection methods and the need maintaining cooperation with police jurisdictions and State agencies to access crash report data. Additionally, while establishing CRSS, respondents also realized the need for additional administrative processes and formalized arrangements to protect personal identifiable information. The prior estimate of the burden associated with this collection was estimated prior to CRSS's implementation and some of the factors affecting the burden were unknown at the time of the prior submission.

Estimated Total Annual Costs: $1,129,867.

NHTSA estimated the total annual cost using the Bureau of Labor Statistics' mean wage estimate for Court, Municipal, and License Clerks (Standard Occupational Classification #43-4031 from May 2018) of $19.76.¹ Therefore, NHTSA estimates the hourly wage associated with the estimated 35,680 burden hours to be $705,036.80 (35,680 hours × $19.76 per hour = $705,036.80). The Bureau of Labor Statistics estimates that for State and local government workers, wages represent 62.4% of total compensation.² Therefore, the total cost associated with this collection is estimated to be $1,129,867. This is an increase of $1,129,867 over the last estimate of the cost of this information collection because the previous estimate did not include the costs associated with the burden hours.

¹ Occupational Employment and Wages, Bureau of Labor Statistics, U.S. Department of Labor, May 2018, https://www.bls.gov/oes/current/oes434031.htm, last accessed June 28, 2019.

² Employer Costs for Employee Compensation-March 2019, Bureau of Labor Statistics, U.S. Department of Labor, https://www.bls.gov/news.release/pdf/ecec.pdf, last accessed July 1, 2019.

Public Comments Invited: You are asked to comment on any aspect of this information collection, including (i) whether the proposed collection of information is necessary for the Department's performance; (ii) if the information will have practical utility; (iii) the accuracy of the estimated burden of the proposed information collection; (iv) ways to enhance the quality, utility, and clarity of the information to be collected; and (v) ways to minimize the burden of the collection of information on respondents including the use of automated collection techniques or other forms of information technology. The agency will summarize and/or include your comments in the request for OMB's clearance of this information collection.

Authority: The Paperwork Reduction Act of 1995; 44 U.S.C. chapter 35, as amended; and 49 CFR 1:48.

Cem Hatipoglu,
Acting Associate Administrator, National Center for Statistics and Analysis.

[FR Doc. 2019-14785 Filed 7-11-19; 8:45 am]

BILLING CODE 4910-59-P